DEPARTMENT OF ENERGY

21st Century Energy Workforce Advisory Board

AGENCY: Office of Energy Jobs, Department of Energy.

ACTION: Notice of open meeting.

SUMMARY: This notice announces an open hybrid meeting with a virtual option for members and the public of the 21st Century Energy Workforce Advisory Board (EWAB). The Federal Advisory Committee Act requires that public notice of these meetings be announced in the Federal Register.

DATES: Monday, September 18, 2023; 10:00 a.m. to 3:30 p.m. EST.

ADDRESSES: Virtual meeting for members of the public.

EWAB members only will participate in-person at the Department of Energy (DOE) Forrestal Building at 1000 Independence Avenue SW, Washington, DC 20585. Registration to participate remotely is available: https://teams.microsoft.com/registration/zD4Ya1VL1U6z-H9kvhxBOA,eJoRzaPoQUuElbtOCKtbWQ,pBbtdUJIYkOKcRiuZY6fDw,aXmsWhibl0ycUwucZqCtsQ,3dxScWg7fku7AguKAro2Yg,7RlsUBNLTUetMZf2VboYSg?mode=read&tenantId=6b183ecc-4b55-4ed5-b3f8-7f64be1c4138&webinarRing=gcc.

The meeting information will be posted on the 21st Century Energy Workforce Advisory Board website at: https://www.energy.gov/policy/21st-century-energy-workforce-advisory-board-ewab, and can also be obtained by contacting EWAB@hq.doe.gov.

FOR FURTHER INFORMATION CONTACT: Piper O'Keefe, Designated Federal Officer, EWAB; email: EWAB@hq.doe.gov or at 202-809-5110.

SUPPLEMENTARY INFORMATION:

Purpose of the Board: The 21st Century Energy Workforce Advisory Board (EWAB) advises the Secretary of Energy in developing a strategy for the Department of Energy (DOE) to support and develop a skilled energy workforce to meet the changing needs of the U.S. energy system. It was established pursuant to section 40211 of the Infrastructure Investment and Jobs Act (IIJA), Public Law 117-58 (42 U.S.C. 18744) in accordance with the provisions of the Federal Advisory Committee Act (FACA), as amended, 5 U.S.C. 10. This is the first meeting of EWAB.

Tentative Agenda: The meeting will start at 1:00 p.m. Eastern Time on September 18, 2023. The tentative meeting agenda includes: roll call, remarks from DOE program offices, discussion of future energy workforce needs, and public comments. The meeting will conclude at approximately 3:30 p.m.

Public Participation: The meeting is open to the public via a virtual meeting option. Individuals who would like to attend must register for the meeting here: https://teams.microsoft.com/registration/zD4Ya1VL1U6z-H9kvhxBOA,eJoRzaPoQUuElbtOCKtbWQ,pBbtdUJIYkOKcRiuZY6fDw,aXmsWhibl0ycUwucZqCtsQ,3dxScWg7fku7AguKAro2Yg,7RlsUBNLTUetMZf2VboYSg?mode=read&tenantId=6b183ecc-4b55-4ed5-b3f8-7f64be1c4138&webinarRing=gcc.

It is the policy of the EWAB to accept written public comments no longer than 5 pages and to accommodate oral public comments, whenever possible. The EWAB expects that public statements presented at its meetings will not be repetitive of previously submitted oral or written statements. The public comment period for this meeting will take place on September 18, 2023, at a time specified in the meeting agenda. This public comment period is designed only for substantive commentary on the EWAB's work, not for business marketing purposes. The Designated Federal Officer will conduct the meeting to facilitate the orderly conduct of business.

Oral Comments: To be considered for the public speaker list at the meeting, interested parties should register to speak by contacting EWAB@hq.doe.gov no later than 12:00 p.m. Eastern Time on September 11, 2023. To accommodate as many speakers as possible, the time for public comments will be limited to three (3) minutes per person, with a total public comment period of up to 15 minutes. If more speakers register than there is space available on the agenda, the EWAB will select speakers on a first-come, first-served basis from those who applied. Those not able to present oral comments may always file written comments with the Board.

Written Comments: Although written comments are accepted continuously, written comments relevant to the subjects of the meeting should be submitted to EWAB@hq.doe.gov no later than 12:00 p.m. Eastern Time on September 11, 2023, so that the comments may be made available to the EWAB members prior to this meeting for their consideration. Please note that because EWAB operates under the provisions of FACA, all public comments and related materials will be treated as public documents and will be made available for public inspection, including being posted on the EWAB website.

Minutes: The minutes of this meeting will be available on the 21st Century Energy Workforce Advisory Board website at https://www.energy.gov/policy/21st-century-energy-workforce-advisory-board-ewab or by contacting Piper O'Keefe at EWAB@hq.doe.gov.

Signed in Washington, DC, on August 17, 2023.
LaTanya Butler,
Deputy Committee Management Officer.

[FR Doc. 2023-18045 Filed 8-21-23; 8:45 am]

BILLING CODE 6450-01-P